DEPARTMENT OF AGRICULTURE

Animal and Plant Health Inspection Service

7 CFR Part 301

[Docket No. 97-056-18]

Mediterranean Fruit Fly; Quarantined Areas, Regulated Articles, Treatments

AGENCY: Animal and Plant Health Inspection Service, USDA.

ACTION: Final rule.

SUMMARY: We are adopting as a final rule, with minor, nonsubstantive changes, interim rules that amended the Mediterranean fruit fly regulations. In a series of interim rules published in the Federal Register between June 1997 and October 1998, we amended the Mediterranean fruit fly regulations by establishing and removing quarantined areas in the State of Florida. Two of the interim rules also added a regulated article; added the use of irradiation as a treatment for berries, fruits, nuts, and vegetables that are regulated articles; and added a definition for core area. These actions were necessary on an emergency basis to prevent the spread of the Mediterranean fruit fly into noninfested areas of the continental United States, and to provide an additional option for qualifying regulated articles for movement from quarantined areas.

EFFECTIVE DATE: September 11, 2000.

FOR FURTHER INFORMATION CONTACT: Mr. Michael B. Stefan, Operations Officer, Invasive Species and Pest Management, PPQ, APHIS, 4700 River Road Unit 134, Riverdale, MD 20737-1236, (301) 734-8247.

SUPPLEMENTARY INFORMATION:

Background

The Mediterranean fruit fly, Ceratitis capitata (Wiedemann), is one of the world's most destructive pests of numerous fruits and vegetables. The Mediterranean fruit fly (Medfly) can cause serious economic losses. Heavy infestations can cause complete loss of crops, and losses of 25 to 50 percent are not uncommon. The short life cycle of this pest permits the rapid development of serious outbreaks. Regulations to prevent the interstate spread of the Medfly from infested areas of the United States are contained in 7 CFR 301.78 through 301.78-10, referred to below as the regulations.

In an interim rule effective June 16, 1997, and published in the Federal Register on June 20, 1997 (62 FR 33537-33539, Docket No. 97-056-2), we quarantined Hillsborough County, FL, because of an infestation of the Medfly. Subsequently, we published a series of interim rules that added to or removed from the list of quarantined areas certain portions of Dade, Highlands, Hillsborough, Lake, Manatee, Marion, Orange, Polk, and Sarasota Counties, FL; added eggplant, other than commercially produced eggplant, to the list of regulated articles; provided for the use of irradiation as a treatment for berries, fruits, nuts, and vegetables; and added a definition for core area. These interim rules were made effective on July 3, 1997 (62 FR 36976-36978, Docket No. 97-056-3), August 7, 1997 (62 FR 43269-43272, Docket No. 97-056-4), September 4, 1997 (62 FR 47553-47558, Docket No. 97-056-5), October 15, 1997 (62 FR 54571-54572, Docket No. 97-056-7), November 14, 1997 (62 FR 61897-61898, Docket No. 97-056-8), April 17, 1998 (63 FR 19797-19798, Docket No. 97-056-9 and 63 FR 20053-20054, Docket No. 98-046-1), May 5, 1998 (63 FR 25748-25750, Docket No.97-056-11), May 13, 1998 (63 FR 27439-27440, Docket No. 97-056-12), June 5, 1998 (63 FR 31887-31888, Docket No. 97-056-13), August 7, 1998 (63 FR 43287-43289, Docket No. 97-056-14), August 13, 1998 (63 FR 44538-44539, Docket No. 97-056-15), August 24, 1998 (63 FR 45392-45393, Docket No. 97-056-16), and October 2, 1998 (63 FR 54037-54038, Docket No. 97-056-17).

Comments on these interim rules were required to be received on or before 60 days after the date of publication in the Federal Register. We received comments on only one of the interim rules.

In that interim rule, which was effective September 4, 1997, and published in the Federal Register on September 10, 1997 (62 FR 47553-47558, Docket No. 97-056-5), we amended the regulations by, among other things, providing for the use of irradiation as a treatment for berries, fruits, nuts, and vegetables that are regulated articles. This change provided an additional option for qualifying those regulated articles for interstate movement from quarantined areas.

We received three comments on this rule. They were from government agencies and an association. They are discussed below.

Two of the commenters said that in § 301.78-10(c)(5)(ii) we should use the term “dosimetry system” rather than the word “dosimeter” in explaining how an absorbed dose should be measured when using irradiation treatment on berries, fruits, nuts, and vegetables. We agree with the commenters. It is the system that is used for the measurement of irradiation; the dosimeter is only a part of the dosimetry system. We are making this change in this final rule.

One commenter suggested that we reword our reference in § 301.78-10(c)(5)(iii) to American Society for Testing and Materials (ASTM) standards. The interim rule stated that the number and placement of dosimeters used must be in accordance with ASTM standards. This statement is correct, but it suggests that other important aspects of the dosimeter, such as calibration, do not need to follow these standards. We are correcting that language in this final rule.

Another commenter pointed out an incorrect address. In § 301.78-10, footnote 10, we stated that if there is a question as to the adequacy of the construction of a carton for shipping fruits and vegetables, requests for approval of the carton, along with a sample of the carton, could be sent to the Animal and Plant Health Inspection Service, Plant Protection and Quarantine, Phytosanitary Issues Management Team, 4700 River Road Unit 140, Riverdale, Maryland 20737-1236. This address is incorrect. Requests should be sent to the Animal and Plant Health Inspection Service, Plant Protection and Quarantine, Oxford Plant Protection Center, 901 Hillsboro Street, Oxford, NC 27565. We are correcting the address in this final rule.

Therefore, for the reasons given in the interim rules and in this document, we are adopting the interim rules as final, with the changes discussed in this document.

This final rule also affirms the information contained in the interim rules concerning Executive Order 12866 and the Regulatory Flexibility Act, Executive Orders 12372 and 12988, and the Paperwork Reduction Act.

Further, for this action, the Office of Management and Budget has waived the review process required by Executive Order 12866.

Effective Date: Pursuant to the administrative procedure provisions in 5 U.S.C. 553, we find good cause for making this rule effective less than 30 days after publication in the Federal Register. This rule makes minor, nonsubstantive changes to the regulations. They are necessary to clarify requirements concerning the use of irradiation treatment on berries, fruits, nuts, and vegetables that are regulated because of the Medfly and to correct an address. Therefore, the Administrator of the Animal and Plant Health Inspection Service has determined that this rule should be effective upon publication in the Federal Register.

List of Subjects in 7 CFR Part 301

Agricultural commodities, Plant diseases and pests, Quarantine, Reporting and recordkeeping requirements, Transportation.

Accordingly, the interim rules amending 7 CFR part 301 that were published at 62 FR 33537-33539 on June 20, 1997; 62 FR 36976-36978 on July 10, 1997; 62 FR 43269-43272 on August 13, 1997; 62 FR 47553-47558 on September 10, 1997; 62 FR 54571-54572 on October 21, 1997; 62 FR 61897-61898 on November 20, 1997; 63 FR 19797-19798 on April 22, 1998; 63 FR 20053-20054 on April 23, 1998; 63 FR 25748-25750 on May 11, 1998; 63 FR 27439-27440 on May 19, 1998; 63 FR 31887-31888 on June 11, 1998; 63 FR 43287-43289 on August 13, 1998; 63 FR 44538-44539 on August 20, 1998; 63 FR 45392-45393 on August 26, 1998; and 63 FR 54037-54038 on October 8, 1998, are adopted as final with the following changes:

PART 301—DOMESTIC QUARANTINE NOTICES

1. The authority citation for part 301 continues to read as follows:

Authority: Title IV, Pub. L. 106-224, 114 Stat. 438, 7 U.S.C. 7701-7772; 7 U.S.C. 166; 7 CFR 2.22, 2.80, and 371.3.

2. Section 301.78-10 is amended as follows:

a. In paragraph (c)(3)(i), by revising footnote 10 to read “ ¹⁰ If there is a question as to the adequacy of a carton, send a request for approval of the carton, together with a sample carton, to the Animal and Plant Health Inspection Service, Plant Protection and Quarantine, Oxford Plant Protection Center, 901 Hillsboro Street, Oxford, NC 27565.”

b. By revising paragraphs (c)(5)(ii) and (c)(5)(iii).

§ 301.78-10 Treatments.

* * * * *

(c) * * *

(5) * * *

(ii) Absorbed dose must be measured using a dosimetry system that can accurately measure an adsorbed dose of 225 Gray (22.5 krad).

(iii) The utilization of the dosimetry system, including its calibration and the number and placement of dosimeters used, must be in accordance with the American Society for Testing and Materials (ASTM) standards.¹²

¹² Designation E 1261, “Standard Guide for Selection and Calibration of Dosimetry Systems for Radiation Processing,” American Society for Testing and Materials, Annual Book of ASTM Standards.

* * * * *

Done in Washington, DC, this 5th day of September 2000.
Bobby R. Acord,
Acting Administrator, Animal and Plant Health Inspection Service.

[FR Doc. 00-23227 Filed 9-8-00; 8:45 am]

BILLING CODE 3410-34-P